SMALL BUSINESS ADMINISTRATION

Data Collection Available for Public Comments

ACTION: 60-day notice and request for comments.

SUMMARY: This Data Collection 60 DAY notice will replace the notice previously published on May 20, 2015, Federal Register Volume 80 Number 97 page 29143. The Small Business Administration (SBA) intends to request approval, from the Office of Management and Budget (OMB) for the collection of information described below using a newly revised one page Benefits Reporting Form. The Paperwork Reduction Act (PRA) of 1995, 44 U.S.C. chapter 35 required federal agencies to publish a notice in the Federal Register concerning each proposed collection of information before submission to OMB, and to allow 60 days for public comment in response to the notice. This notice complies with that requirement.

DATES: Submit comments on or before August 3, 2015.

ADDRESSES: Send all comments to Melinda Edwards, Program Analyst, Office of Business Development, Small Business Administration, 409 3rd Street, 8th Floor, Washington, DC 20416.

FOR FURTHER INFORMATION OR A COPY OF THE FORM CONTACT: Melinda Edwards, Program Analyst, Office of Business Development, Melinda.Edwards@sba.gov 202-619-1843, or Curtis B. Rich, Management Analyst, 202-205-7030, Curtis.Rich@sba.gov.

SUPPLEMENTARY INFORMATION: In accordance with 13 CFR 124.604, Participants owned by a Tribe, ANC, NHO or CDC must submit to SBA yearly information showing how they have provided benefits to their members and communities. SBA's new one page benefits form will collect data on funded cultural programs, employment assistance, jobs, scholarships, internships, subsistence activities, and other services provided by entity owned 8(a) participants.

In 2011, SBA conducted Tribal Consultations meetings in, Milwaukee, Wisconsin and Anchorage, Alaska to discuss changes to the 8(a) BD program regulations which included approaches to track community benefits. As a result of the meetings a seven page benefit report was compiled. However, the SBA and OMB received several comments that the proposed seven page form was burdensome.

In 2015, the SBA met with OMB and committed to a one page form to reduce the administrative burden on the applicable firms. The proposed one page form was released to several associations and representatives of Tribes, ANCs, NHOs and CDCs for comment, along with an invitation to tribal consultations. The SBA's Office of Native American Affairs (ONAA) conducted Tribal Consultations to discuss the one page form and to give entity-owned firms a meaningful opportunity to address their concerns with the form. The entity-owned firms responded favorably, but requested the ability to include an optional narrative in addition to the one page form. The SBA concurred with comments and incorporated the optional narrative. The dates and locations of the Tribal Consultations were: February 26, 2015—Washington, DC in person; April 7, 2015—Conference Call; April 8, 2015—Conference Call; April 20, 2015—St. Catossa, OK in person; and April 22, 2015—Anchorage, AK in person. The resulting one page form with the ability to provide an optional narrative reduces the administrative burdens associated with the previous seven page benefits form and meets the intent of 13 CFR 124.604.

Solicitation of Public Comments: SBA is requesting comments on (a) whether the collection of information is necessary for the agency to properly perform its functions in accordance with 13 CFR 124.604; (b) whether there are ways to minimize the burden; and (c) whether there are ways to enhance the quality, utility, and clarity of the information.

Summary of Information Collection:

Title: 8(a) Participant Benefits Report.

Description of Respondents: 8(a) Program Participants—Entity Owned Indian Tribe, Alaskan Native Corporations, Native Hawaiian Organizations, and Community Development Corporations.

Form Number: N/A.

Total Estimated Annual Responses: 329.

Total estimated Annual Hour Burden: 165.

Curtis B. Rich,
Management Analyst.

[FR Doc. 2015-13363 Filed 6-1-15; 8:45 am]

BILLING CODE 8025-01-P